ENVIRONMENTAL PROTECTION AGENCY

[OPP-2003-0069; FRL-7310-6]

Propanil; Receipt of Requests to Amend or Voluntarily Cancel Pesticide Registrations

AGENCY: Environmental Protection Agency (EPA).

ACTION: Notice.

SUMMARY: In accordance with section 6(f)(1) of the Federal Insecticide, Fungicide, and Rodenticide Act (FIFRA), as amended, EPA is issuing a notice of receipt of written requests by Agriliance, LLC, Dow AgroSciences, LLC, and RiceCo, LLC to voluntarily cancel/amend several registrations to terminate small grain uses (spring (hard red) wheat, oats, spring barley and durum wheat) of certain end-use and technical products for the active ingredient propanil. The Agency requests public comment on the voluntary cancellation and use deletion requests, and is providing a 30-day comment period. Agriliance, LLC, Dow AgroSciences, LLC and RiceCo, LLC have requested that the Administrator waive the 180-day comment period provided under FIFRA section 6(f)(1)(C). EPA will decide whether to approve the request after consideration of public comment.

DATES: Unless a request is withdrawn, the Agency will approve these product and use cancellations/amendments and they will become effective on July 28, 2003.

FOR FURTHER INFORMATION CONTACT: Carmen Rodia, Special Review and Reregistration Division (7508C), Office of Pesticide Programs, Environmental Protection Agency, 1200 Pennsylvania Avenue, NW., Washington, DC 20460-0001; telephone number: (703) 306-0327; fax number: (703) 308-8041; e-mail address: rodia.carmen@epa.gov.

SUPPLEMENTARY INFORMATION:

I. General Information

A. Does this Action Apply to Me?

This action is directed to the public in general. This action may however, be of interest to persons who are or may be required to conduct testing of chemical substances under FIFRA or the Federal Food, Drug, and Cosmetic Act (FFDCA); environmental, human health and agricultural advocates; pesticide users; and members of the public interested in the use of pesticides. Since other entities may also be interested, the Agency has not attempted to describe all of the specific entities that may be affected by this action. If you have any questions regarding the applicability of this action to a particular entity or if there are any technical questions related to the propanil RED, please consult the Chemical Review manager listed under FOR FURTHER INFORMATION CONTACT.

B. How Can I Get Copies of this Document and Other Related Information?

1. Docket. EPA has established an official public docket for this action under docket identification (ID) number OPP-2003-0069. The official public docket consists of the documents specifically referenced in this action, any public comments received and other information related to this action. Although a part of the official docket, the public docket does not include Confidential Business Information (CBI) or other information whose disclosure is restricted by statute. The official public docket is the collection of materials that is available for public viewing at the Public Information and Records Integrity Branch (PIRIB), Room 119, Crystal Mall #2, 1921 Jefferson Davis Highway, Arlington, VA 22202-4501. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. To access RED documents electronically, go directly to the Office of Pesticide Program's Home Page at http://cfpub.epa.gov/oppref/rereg/status.cfm?show=rereg.

An electronic version of the official public docket is available through EPA's electronic public docket and comment system, EPA Dockets, at http://cascade.epa.gov/RightSite/dk_public_home.htm. You may use EPA Dockets to submit or view public comments, access the index listing of the contents of the official public docket and to access those documents in the public docket that are available electronically. Although not all docket materials may be available electronically, you may still access any of the publicly available docket materials through the docket facility identified in Unit I.B.1. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

For public commenters, it is important to note that EPA's policy is that public comments, whether submitted electronically or on paper, will be made available for public viewing in EPA's electronic public docket as EPA receives them and without change, unless the comment contains copyrighted material, CBI or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

C. How and to Whom Do I Submit Comments?

You may submit comments electronically, by mail or through hand delivery/courier. To ensure proper receipt by EPA, identify the appropriate docket ID number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statute.

1. Electronically. If you submit an electronic comment as prescribed in this unit, EPA recommends that you include your name, mailing address and an e-mail address or other contact information in the body of your comment. Also include this contact information on the outside of any disk or CD ROM you submit, and in any cover letter accompanying the disk or CD ROM. This ensures that you can be identified as the submitter of the comment and allows EPA to contact you in case EPA cannot read your comment due to technical difficulties or if additional information is needed regarding the substance of your comment. EPA's policy is that EPA will not edit your comment. Any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://cascade.epa.gov/RightSite/dk_public_home.htm, and follow the online instructions for submitting comments. Once in the system, select “search,” and then key in docket ID number OPP-2003-0069. This system is an “anonymous access” system, which means EPA will not know your identity, e-mail address or other contact information unless you provide it in the body of your comment.

ii. E-mail. Comments may be sent by e-mail to opp-docket@epa.gov, Attention: Docket ID Number OPP-2003-0069. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Public Information and Records Integrity Branch (PIRIB), Information Resources and Services Division (7502C), Office of Pesticide Programs (OPP), Environmental Protection Agency, 1200 Pennsylvania Avenue, NW., Washington, DC 20460-0001, Attention: Docket ID Number OPP-2003-0069.

3. By hand delivery or courier. Deliver your comments to: Public Information and Records Integrity Branch (PIRIB), Information Resources and Services Division (7502C), Office of Pesticide Programs (OPP), Environmental Protection Agency, Room 119, Crystal Mall #2, 1921 Jefferson Davis Highway, Arlington, VA 22202-4501, Attention: Docket ID Number OPP-2003-0069. Such deliveries are only accepted during the docket's normal hours of operation as identified in Unit I.B.1.

D. How Should I Submit CBI to the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the technical person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to identify the docket ID number assigned to this action in the subject line on the first page of your response. You may also provide the name, date, and Federal Register citation.

II. Receipt of Requests to Cancel Registrations

A. What Action is the Agency Taking?

This Notice announces receipt by the Agency of requests from Agriliance, LLC, Dow AgroSciences, LLC, and RiceCo, LLC to cancel/amend 10 pesticide products registered under section 3 of FIFRA, effective July 28, 2003. These registrations are listed in Unit II.C.

B. Background

Propanil is a selective post-emergent general use acetanilide herbicide registered to control broadleaf and grass weeds on rice, small grains, and turf.

On March 27, 2002, Dow AgroSciences, LLC requested voluntary cancellation pursuant to section 6(f) of FIFRA of their registrations for the products STAMPEDE CM (EPA Registration No. 62719-404) and STAMPEDE 80 EDF (Alternate Brand) (EPA Registration No. 62719-413). In addition, Dow AgroSciences, LLC also requested voluntary cancellation of propanil use on the small grains for STAM 80 EDF (EPA Registration No. 62719-413).

On March 28, 2002, Dow AgroSciences, LLC requested voluntary cancellation pursuant to section 6(f) of FIFRA of their registration for the product STAMPEDE 3E (Alternate Brand) (EPA Registration No. 62719-386). In addition, Dow AgroSciences, LLC also requested voluntary cancellation of propanil use on the small grains for STAM F-34 (EPA Registration No. 62719-386).

On March 29, 2002, Dow AgroSciences, LLC requested voluntary cancellation pursuant to section 6(f) of FIFRA of propanil use on the small grains for STAM TECHNICAL 98% DCA (EPA Registration No. 62719-403).

On March 17, 2003, RiceCo, LLC requested voluntary cancellation pursuant to section 6(f) of FIFRA of propanil use on the small grains for PROPANIL 60 DF (EPA Registration No. 71085-22).

On April 29, 2003, Agriliance, LLC requested voluntary cancellation pursuant to section 6(f) of FIFRA of propanil use on the small grains or PROPANIL 80 EDF (EPA Registration No. 9779-338).

On May 6, 2003, RiceCo, LLC requested voluntary cancellation pursuant to section 6(f) of FIFRA of propanil use on the small grains for the products RICECO PROPANIL TECHNICAL (EPA Registration No. 71085-1) and RICECO PROPANIL TECHNICAL (EPA Registration No. 71085-21).

C. Request for Voluntary Cancellation of Propanil Products

Pursuant to section 6(f)(1)(A) of FIFRA, Agriliance, LLC, Dow AgroSciences, LLC, and RiceCo, LLC have submitted a request to cancel/amend 10 pesticide product uses registered under section 3 of FIFRA containing propanil as listed in the following Table 1:

Table 1.—Registrations with Pending Requests for Amendments or Cancellation
EPA Registration Number | Product Name | Intended Effective Date for Cancellation
9779-338 | PROPANIL 80 EDF (Amend label to delete use on spring (hard red) wheat, spring barley, and durum wheat) | July 28, 2003
62719-386 | STAMPEDE 3E (Alternate Brand) (Product cancellation) STAM F-34 (Amend label to delete use on spring (hard red) wheat, oats, spring barley, and durum wheat) | July 28, 2003
62719-403 | STAM TECHNICAL 98% DCA (Amend label to delete use on spring (hard red) wheat, oats, spring barley and, durum wheat) | July 28, 2003
62719-404 | STAMPEDE CM (Product cancellation) | July 28, 2003
62719-413 | STAMPEDE 80 EDF (Alternate Brand) (Product cancellation) STAM 80 EDF (Amend label to delete use on spring (hard red) wheat, oats, spring barley, and durum wheat) | July 28, 2003
71085-1 | RICECO PROPANIL TECHNICAL (Amend label to delete use on spring (hard red) wheat, spring barley, and durum wheat) | July 28, 2003
71085-21 | RICECO PROPANIL TECHNICAL (Amend label to delete use on spring (hard red) wheat, spring barley, and durum wheat) | July 28, 2003
71085-22 | PROPANIL 60 DF (Amend label to delete use on spring (hard red) wheat, spring barley, and durum wheat) | July 28, 2003

III. What is the Agency's Authority for Taking this Action?

Under section 6(f)(1)(A) of FIFRA, registrants may request, at any time, that EPA cancel any of their pesticide registrations. Section 6(f)(1)(B) of FIFRA requires that the Agency provide a 30-day period in which the public may comment before EPA may act on the request for voluntary cancellation. In addition, section 6(f)(1)(C) of FIFRA requires that EPA provide a 180-day comment period on a request for voluntary termination of any minor agricultural use(s) before granting the request, unless: (1) The registrants request a waiver of the comment period, or (2) the Administrator determines that continued use of the pesticide would pose an unreasonable adverse effect on the environment. The registrants have requested that EPA waive the 180-day comment period. In light of this request, the Agency is granting the request to waive the 180-day comment period and is providing a 30-day public comment period before taking action on the requested cancellations. If the Agency does not receive any comments specific to these cancellations, EPA intends to grant the requested cancellations at the close of the 30-day public comment period for this Notice on July 28, 2003.

A. Procedures for Withdrawal of Request

Registrants who choose to withdraw a request for voluntary cancellation must submit such withdrawal in writing to the person listed under FOR FURTHER INFORMATION CONTACT, postmarked before July 28, 2003. This written withdrawal of the request for voluntary cancellation will apply only to the applicable FIFRA section 6(f)(1) requests listed in Table 1 of this Notice. If the product(s) have been subject to a previous cancellation action, the effective date of cancellation and all other provisions of any earlier cancellation action are controlling. The withdrawal request must also include a commitment to pay any reregistration fees due and to fulfill any applicable unsatisfied data requirements.

Table 2 of this unit includes the names and addresses of the registrants of the products in Table 1 of this unit:

Table 2.—Registrants Requesting Voluntary Cancellation
EPA Company Number | Company Name and Address
9779 | Agriliance, LLC, 5600 Cenex Drive, Inver Grove Heights, MN 55077-1723
62719 | Dow AgroSciences, LLC, 9330 Zionsville Road, Indianapolis, IN 46268-1054
71085 | RiceCo, LLC, 5100 Poplar Avenue, Suite 2428, Memphis, TN 38137-2428

B. Provisions for Disposition of Existing Stocks

The Agency intends to prohibit the sale and distribution of existing stocks of the affected propanil products (EPA Registration Nos. 9779-338, 62719-386, 62719-403, 62719-404, 62719-413, and 71085-22) 12 months after publication of this Notice on June 28, 2004.

This is in accordance with the Agency's statement of policy as prescribed in the Federal Register of June 26, 1991 (56 FR 29362) (FRL-3846-4).

Exceptions will be made if EPA determines that a product poses a risk concern, or is in noncompliance with reregistration requirements, or is subject to a Data Call-In. In all cases, product-specific disposition dates will be given in the cancellation orders.

Existing stocks are those stocks of registered pesticide products which are currently in the United States and which have been packaged, labeled, and released for shipment prior to the effective data of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical.

List of Subjects

Environmental protection, Propanil, Pesticides and pests.

Dated: June 16, 2003.
Richard P. Keigwin, Jr.,
Director, Special Review and Reregistration Division, Office of Pesticide Programs.

[FR Doc. 03-16331 Filed 6-26-03; 8:45 am]

BILLING CODE 6560-50-S